COMMISSION ON CIVIL RIGHTS

Notice of Public Meeting of the Washington Advisory Committee Advisory Committee; Cancellation

AGENCY: Commission on Civil Rights.

ACTION: Notice; cancellation of virtual business meeting.

SUMMARY: The Commission on Civil Rights published a notice in the Federal Register concerning a virtual business meeting of the Washington Advisory Committee. The meeting scheduled for Tuesday, June 13, 2023, at 11:00 a.m. Pacific Time is cancelled. The notice is in the Federal Register of Monday, April 17, 2023, in FR Doc. 2023-07968 in the second and third columns of page 23395.

FOR FURTHER INFORMATION CONTACT: Brooke Peery, bpeery@usccr.gov, (202) 701.1376.

Dated: June 6, 2023.
David Mussatt,
Supervisory Chief, Regional Programs Unit.

[FR Doc. 2023-12426 Filed 6-9-23; 8:45 am]

BILLING CODE P